DEPARTMENT OF ENERGY

Federal Energy Regulatory Commission

[Docket No. AD23-10-000]

Capacity Accreditation; Notice of Request for Technical Conference

Take notice that on August 22, 2023, the American Clean Power Association, pursuant to Rule 207 of the Federal Energy Regulatory Commission's (Commission) Rules of Practice and Procedure, 18 CFR 385.207 (2022), filed a petition requesting that the Commission hold a technical conference to explore ways to improve the accreditation of resources' capacity value in Independent System Operator/Regional Transmission Organization (ISO/RTO) regions with and without capacity markets, as well as in non-ISO/RTO regions.

Any person that wishes to comment in this proceeding must file comments in accordance with Rule 211 of the Commission's Rules of Practice and Procedure, 18 CFR 385.211 (2022). Comments will be considered by the Commission in determining the appropriate action to be taken. Comments must be filed on or before the comment date.

In addition to publishing the full text of this document in the Federal Register, the Commission provides all interested persons an opportunity to view and/or print the contents of this document via the internet through the Commission's Home Page (https://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

This filing is accessible on-line at https://www.ferc.gov, using the “eLibrary” link. There is an “eSubscription” link on the website that enables subscribers to receive email notification when a document is added to a subscribed docket(s). For assistance with any FERC Online service, please email FERCOnlineSupport@ferc.gov, or call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5 p.m. Eastern Time on October 2, 2023.

Dated: September 1, 2023.
Debbie-Anne A. Reese,
Deputy Secretary.

[FR Doc. 2023-19418 Filed 9-7-23; 8:45 am]

BILLING CODE 6717-01-P